DEPARTMENT OF THE TREASURY

Internal Revenue Service

[PS-27-91]

Proposed Collection; Comment Request for Regulation Project; Correction

AGENCY: Internal Revenue Service (IRS), Treasury.

ACTION: Correction to notice and request for comments.

SUMMARY: This document contains a correction to a notice and request for comments, which was published in the Federal Register on Wednesday, February 11, 2004 (68 FR 6722). This notice relates to a comment request on proposed and/or continuing information collections, Procedural Rules for Excise Taxes Currently Reportable on Form 720.

FOR FURTHER INFORMATION CONTACT: Carol Savage (202) 622-3945 (not a toll-free number).

SUPPLEMENTARY INFORMATION:

Background

The notice and request for comments that is the subject of this correction is required by the Paperwork Reduction Act of 1995, Pub. L. 104-13 (44 U.S.C. 3506(c)(2)(A)).

Need for Correction

As published, the comment request for Form 720 contains an error which may prove to be misleading and is in need of clarification.

Correction of Publication

Accordingly, the publication of the comment request for Form 720, which was the subject of FR Doc. 04-2976, is corrected as follows:

1. On page 6722, column 2, in the heading, the language, “PS-27-97” is corrected to read “PS-27-91”

Cynthia E. Grigsby,
Acting Chief, Publications and Regulations Branch, Legal Processing Division, Associate Chief Counsel, (Procedure and Administration).

[FR Doc. 04-3548 Filed 2-18-04; 8:45 am]

BILLING CODE 4830-01-P